DEPARTMENT OF THE TREASURY

Office of Foreign Assets Control

Notice of OFAC Sanctions Actions

AGENCY: Office of Foreign Assets Control, Treasury.

ACTION: Notice.

SUMMARY: The U.S. Department of the Treasury's Office of Foreign Assets Control (OFAC) is publishing the names of one or more persons that have been placed on OFAC's Specially Designated Nationals and Blocked Persons List (SDN List) based on OFAC's determination that one or more applicable legal criteria were satisfied. All property and interests in property subject to U.S. jurisdiction of these persons are blocked, and U.S. persons are generally prohibited from engaging in transactions with them.

DATES: See SUPPLEMENTARY INFORMATION section for applicable date(s).

FOR FURTHER INFORMATION CONTACT: OFAC: Andrea Gacki, Director, tel.: 202-622-2490; Associate Director for Global Targeting, tel.: 202-622-2420; Assistant Director for Licensing, tel.: 202-622-2480; Assistant Director for Regulatory Affairs, tel.: 202-622-4855; or the Assistant Director for Sanctions Compliance & Evaluation, tel.: 202-622-2490.

SUPPLEMENTARY INFORMATION:

Electronic Availability

The SDN List and additional information concerning OFAC sanctions programs are available on OFAC's website (www.treasury.gov/ofac).

Notice of OFAC Actions

On June 1, 2023, OFAC determined that the property and interests in property subject to U.S. jurisdiction of the following persons are blocked under the relevant sanctions authorities listed below.

Entities

1. DEFENSE INDUSTRIES SYSTEM (a.k.a. MILITARY INDUSTRY CORPORATION; a.k.a. “DEFENSE INDUSTRIES CORPORATION”; a.k.a. “DEFENSE INDUSTRY SYSTEM”), Khartoum North, Khartoum 10783, Sudan; Organization Established Date 1993; Organization Type: Defense activities [SUDAN-EO14098].

Designated pursuant to section 1(a)(i)(A) of Executive Order 14098 of May 4, 2023, “Imposing Sanctions on Certain Persons Destabilizing Sudan and Undermining the Goal of a Democratic Transition,” 88 FR 29529 (E.O. 14098) for being a foreign person responsible for, or complicit in, or having directly or indirectly engaged or attempted to engage in actions or policies that threaten the peace, security, or stability of Sudan.

2. SUDAN MASTER TECHNOLOGY (a.k.a. GIAD INDUSTRIAL CITY; a.k.a. GIAD INDUSTRIAL GROUP), SMT Building Madani Road, KM 50 Khartoum, Giad Industrial Complex, Gamhuria Street, Khartoum, Sudan; Giad Industrial Group Building, Street 60, Giad Industrial City, PO Box 444, Khartoum, Sudan; SMT Building, Gamhuria Street, GIAD Industrial Complex, PO Box 10782, Khartoum SU001, Sudan; website www.sudanmaster.com; Organization Established Date 01 Jan 1993; Organization Type: Activities of holding companies [SUDAN-EO14098].

Designated pursuant to section 1(a)(i)(A) of E.O. 14098 for being a foreign person responsible for, or complicit in, or having directly or indirectly engaged or attempted to engage in actions or policies that threaten the peace, security, or stability of Sudan.

3. AL JUNAID MULTI ACTIVITIES CO LTD (a.k.a. AJMAC MULTI ACTIVITIES COMPANY LTD; a.k.a. AL GUNADE; a.k.a. ALGUNADE; a.k.a. “AL JUNAID”), Street 3, Block 17, Alryad, Khartoum, Sudan; 99 Gama Avenue, P.O. Box 913, Khartoum, Sudan; website www.ajmac.com; Organization Established Date 2009; Organization Type: Activities of holding companies [SUDAN-EO14098].

Designated pursuant to section 1(a)(i)(A) of E.O. 14098 for being a foreign person responsible for, or complicit in, or having directly or indirectly engaged or attempted to engage in actions or policies that threaten the peace, security, or stability of Sudan.

4. TRADIVE GENERAL TRADING L.L.C (a.k.a. MOTAH GENERAL TRADING, L.L.C.), P.O. Box 86436, Dubai, United Arab Emirates; Organization Established Date 11 Nov 2018; Organization Type: Non-specialized wholesale trade; Chamber of Commerce Number 1374345 (United Arab Emirates); Business Registration Number 818826 (United Arab Emirates) [SUDAN-EO14098].

Designated pursuant to section 1(a)(i)(A) of E.O. 14098 for being a foreign person responsible for, or complicit in, or having directly or indirectly engaged or attempted to engage in actions or policies that threaten the peace, security, or stability of Sudan.

Dated: June 1, 2023.
Andrea M. Gacki,
Director, Office of Foreign Assets Control, U.S. Department of the Treasury.

[FR Doc. 2023-12069 Filed 6-5-23; 8:45 am]

BILLING CODE 4810-AL-P